INTERNATIONAL TRADE COMMISSION

[Investigation No. 337-TA-863]

Certain Paper Shredders, Certain Processes for Manufacturing or Relating to Same and Certain Products Containing Same and Certain Parts Thereof; Commission Determination Not To Review an Initial Determination Terminating the Investigation Based on a Settlement Agreement, Consent Order, and Withdrawal of the Complaint; Termination of Investigation

AGENCY: U.S. International Trade Commission.

ACTION: Notice.

SUMMARY: Notice is hereby given that the U.S. International Trade Commission has determined not to review an initial determination (“ID”) (Order No. 6) issued by the presiding administrative law judge (“ALJ”) on November 20, 2013, terminating the investigation based on a settlement agreement, a consent order, and the withdrawal of the complaint.

FOR FURTHER INFORMATION CONTACT: Robert Needham, Office of the General Counsel, U.S. International Trade Commission, 500 E Street SW., Washington, DC 20436, telephone (202) 708-5468. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on January 25, 2013, based on a complaint filed by Fellowes, Inc., and Fellowes Office Products (Suzhou) Co. Ltd. 78 FR 5496-97. The complaint alleges violations of section 337 of the Tariff Act of 1930, as amended, 19 U.S.C. 1337 (“section 337”), in the importation into the United States, the sale for importation, and the sale within the United States after importation of certain shredders, by reason of the infringement of certain claims of U.S. Design Patent Nos. D583,859 and D598,048, and the misappropriation of certain trade secrets. The Commission's notice of investigation named as respondents New United Co. Group Ltd.; Jiangsu New United Office Equipments Co. Ltd.; Shenzhen Elite Business Office Equipment Co. Ltd.; Elite Business Machines Ltd.; New United Office Equipment USA, Inc.; Jiangsu Shinri Machinery Co. Ltd. (collectively, the “New United” respondents); and the individuals Zhou Licheng, Randall Graves, and “Jessica” Wang Chongge (collectively, the “Individual” respondents). The Office of Unfair Import Investigation (“OUII”) was named a party to the investigation.

On November 7, 2013, all complainants and respondents (“the private parties”) jointly moved to terminate the investigation. The private parties moved to terminate the investigation with respect to the New United respondents based on a settlement agreement and consent order, and to terminate the investigation with respect to the Individual respondents based on a withdrawal of the complaint. The private parties attached a Consent Order Stipulation, a Proposed Consent Order, and a Settlement Agreement to their motion, and represented that there are no other agreements, written or oral, express or implied between the parties concerning the subject matter of the investigation. On November 18, 2013, OUII filed a response supporting the motion.

On November 20, 2013, the ALJ issued the subject ID, granting the motion and terminating the investigation. The ALJ found that the motion complied with Commission rules, and that the public interest factors did not weigh against granting the motion.

The Commission has determined not to review the subject ID.

The authority for the Commission's determination is contained in section 337 of the Tariff Act of 1930, as amended (19 U.S.C. 1337), and in part 210 of the Commission's Rules of Practice and Procedure (19 CFR part 210).

By order of the Commission.
Issued: December 20, 2013.
Lisa R. Barton,
Acting Secretary to the Commission.

[FR Doc. 2013-30959 Filed 12-26-13; 8:45 am]

BILLING CODE 7020-02-P